DEPARTMENT OF LABOR

Employment and Training Administration

[TA-W-54,161]

Loftin Black Furniture, Thomasville, North Carolina; Notice of Termination of Investigation

Pursuant to section 221 of the Trade Act of 1974, an investigation was initiated on February 4, 2004, in response to petition filed on behalf of workers at Loftin Black Furniture, Thomasville, North Carolina.

The petition regarding the investigation was signed by only one worker and has therefore been deemed invalid. A valid petition must be signed by three workers, their duly authorized representative, or a State official. Consequently, further investigation in this case would serve no purpose, and the investigation has been terminated.

Signed in Washington, DC this 6th day of February, 2004.
Richard Church,
Certifying Officer, Division of Trade Adjustment Assistance.

[FR Doc. E4-379 Filed 2-24-04; 8:45 am]

BILLING CODE 4510-13-P